DEPARTMENT OF LABOR

Employment and Training Administration

Allotments for Training and Employment Services as Specified in the American Recovery and Reinvestment Act of 2009 (Recovery Act) for Activities Under the Workforce Investment Act of 1998 (WIA); Workforce Investment Act Adult, Dislocated Worker and Youth Activities Program Allotments; Wagner-Peyser Act Allotments, and Reemployment Service (RES) Allotments

AGENCY: Employment and Training Administration, Labor.

ACTION: Notice.

SUMMARY: This Notice announces States' allotments for The Department of Labor (DOL or Department) for training and employment services as specified in the American Recovery and Reinvestment Act of 2009 (Recovery Act) for activities under the Workforce Investment Act of 1998 (WIA)—Workforce Investment Act Adult, Dislocated Worker and Youth Activities Program Allotments; Wagner-Peyser Act Allotments, and Reemployment Service (RES) Allotments. The funds for the allotments announced in this TEGL are part of the funds appropriated in the American Recovery and Reinvestment Act of 2009, Public Law 111-5 (the Recovery Act), signed into law February 17, 2009.

The WIA allotments for States and the final allotments for the Wagner-Peyser Act are based on formulas defined in their respective statutes. The WIA allotments for the outlying areas are based on a formula determined by the Secretary. As required by WIA section 182(d), on February 17, 2000, a Notice of the discretionary formula for allocating PY 2000 funds for the outlying areas (American Samoa, Guam, Marshall Islands, Micronesia, Northern Marianas, Palau, and the Virgin Islands) was published in the Federal Register at 65 FR 8236 (February 17, 2000). The rationale for the formula and methodology was fully explained in the February 17, 2000, Federal Register Notice. The formula for PY 2008 is the same as used for PY 2000 and is described in the section on Youth Activities program allotments. Comments are invited on the formula used to allot funds to the outlying areas.

DATES: Comments on the formula used to allot funds to the outlying areas must be received by April 20, 2009.

ADDRESSES: Submit written comments to the Employment and Training Administration, Office of Financial and Administrative Management, 200 Constitution Ave., NW., Room N-4702, Washington, DC 20210, Attention: Mr. Kenneth Leung, (202) 693-3471 (phone), (202) 693-2859 (fax), e-mail: Leung.Kenneth@dol.gov.

FOR FURTHER INFORMATION CONTACT: WIA Youth Activities allotments: Evan Rosenberg at (202) 693-3593 or LaSharn Youngblood at (202) 693-3606; WIA Adult and Dislocated Worker Activities, ES final allotments, and WOTC allotments: Mike Qualter at (202) 693-3014.

SUPPLEMENTARY INFORMATION: The Department of Labor (DOL or Department) is announcing Allotments for training and employment services as specified in the American Recovery and Reinvestment Act of 2009 (Recovery Act) for activities under the Workforce Investment Act of 1998 (WIA)—Workforce Investment Act Adult, Dislocated Worker and Youth Activities Program Allotments; Wagner-Peyser Act Allotments, and Reemployment Service (RES) Allotments. The funds for the allotments announced in this TEGL are part of the funds appropriated in the American Recovery and Reinvestment Act of 2009, Public Law 111-5 (the Recovery Act), signed into law February 17, 2009.

Recovery Act funds for Training and Employment Services under WIA and the Wagner-Peyser Act are available for allotment as follows:

• $1,188,000,000 for youth activities, including summer employment for youth;

• $495,000,000 for adult services, including supportive services and needs-related payments. Priority for receipt of these services is to go to recipients of public assistance and other low-income individuals as described in 134(d)(4)(E) of WIA;

• $1,435,500,000 for dislocated worker training and employment services and national reserve; and

• $396,000,000 for Wagner-Peyser Act activities; $247,500,000 of those funds are to support RES for unemployment insurance claimants.

The above figures represent the amount of Recovery Act funds as specified in the Act less one percent which is authorized to be retained at the Federal level for program administration and oversight.

States are expected to spend Recovery Act funding quickly and effectively. WIA funding for Adults, Dislocated Workers, and Youth are considered to be PY 2008 funds and, therefore, must be expended by the end of PY 2010 (June 30, 2011). Wagner-Peyser funds are available for obligation by the States through September 30, 2010 and must be expended by the end of PY 2010 (June 30, 2011). It is the Congress' intent, as well as that of the Administration, that the majority of these funds will be utilized within the first year of availability.

The Recovery Act is intended to preserve and create jobs, promote the nation's economic recovery, and assist those most impacted by the recession. It provides the U.S. Department of Labor and the public workforce investment system with unprecedented levels of funding for a number of employment and training programs to help Americans acquire new skills and get back to work. If the workforce system is to meet both the letter and the spirit of the law and fulfill its critical role in U.S. economic recovery, we must implement the Act expeditiously and effectively, with full accountability of our expenditure of funds. But the Recovery Act provides more than an injection of workforce development resources into communities in need across the country. The significant investment of stimulus funds presents an extraordinary and unique opportunity for the workforce system to advance transformational efforts and demonstrate its full capacity to innovate and implement effective One-Stop service delivery strategies. As States and localities plan how their One-Stop systems will make immediate use of the Recovery Act funds, ETA encourages them to take an expansive view of how the funds can be integrated into efforts to improve the effectiveness of the public workforce system. In this system, the needs of workers and employers are equally important in developing thriving communities where all citizens succeed and businesses prosper. Successful implementation of the Recovery Act includes not only quick and effective provision of services and training for workers in need, but also leveraging changes in the system's basic operations to develop a strong, invigorated, innovative public workforce system capable of helping enable future economic growth and advancing shared prosperity for all Americans.

In a stronger, more comprehensive workforce investment system, adults move easily between the labor market and education and training in order to advance in their careers and upgrade their contributions to the workplace, while disconnected youth are able to reconnect through multiple pathways to education and training opportunities necessary to enter and advance in the workforce. Adult education, job training, postsecondary education, registered apprenticeship, career advancement and supportive service activities are fully aligned with economic and community development strategies, so as to meet the skill needs of existing and emerging employers and high growth occupations as well as the needs of under-skilled adults. Under such a dual-customer approach, seamless career pathways would be developed and offered, and support services and needs-based payments would be available, making it far easier for young people and adults to advance and persist through progressive levels of the education and job training system as quickly as possible and gain education and workforce skills of demonstrated value at each level. Education and training at every level would be closely aligned with jobs and industries important to local and regional economies. Every level of education and training would afford students and trainees the ability to advance in school or at work, with assessments and certifications linked to the requirements of the next level of education and employment.

With this infusion of funding, States and local areas should consider how their funding decisions and implementation activities for Recovery Act funds can help achieve this goal of workforce system transformation.

The WIA allotments for States are based on formula provisions defined in the Act (see Attachment I for WIA and Wagner-Peyser formula descriptions). The WIA allotments for the outlying areas (e.g., American Samoa, Guam, Northern Marianas, Palau, and the Virgin Islands) are based on a discretionary formula used for PY 2008 funds as authorized under WIA Title I.

To assist States in the implementation, monitoring, and reporting of Recovery Act activities, ETA anticipates providing TEGLs or other documents on the following topics:

• Policy and Planning;

• Participant and Performance Reporting; and

• Financial Reporting.

Pursuant to the intent of the Recovery Act, allotments will be issued no later than 30 days from the date the bill was signed into law, February 17, 2009. The Recovery Act allotment funds will be issued as modifications to the PY 2008 WIA grants, with the funds having the same period of performance as PY 2008 funds. We reiterate the additional Wagner-Peyser obligation requirement for Recovery Act funds which is specified in the Act as September 30, 2010. It should be noted that grant agreements will have new provisions specific to the Recovery Act funding. The following is the schedule for processing the Recovery Act funds:

• Week of March 2, 2009—Amended agreement sent to State grantees;

• Week of March 9, 2009—States return the signed version of the agreement; and

• Week of March 16, 2009—Notice of Obligation allotting funds issued.

Policy and Procedures for Quick and Effective Expenditure of Funds

The intent of the Recovery Act is that funds be spent quickly and effectively in meeting the employment and training needs of the Nation's workforce. In order to accomplish this, ETA will be issuing Notices of Obligation (NOOs) for WIA and Wagner-Peyser funds no later than March 19, 2009, 30 days from the President's signing of the Recovery Act.

In an effort to support States in their rapid deployment of funds and recognizing that normal plan submission and approval procedures may hamper such efforts, ETA has determined that States' approved PY 2008 WIA and Wagner-Peyser Act Strategic State Plans qualify the States to receive Recovery Act allotments pursuant to WIA section 112. To qualify States for PY 2009 allotments, ETA will grant extensions on current WIA and Wagner-Peyser Strategic State Plans for PY 2009. This strategy will permit States to immediately receive and begin expending Recovery Act funds while providing a meaningful period in which to develop plans for the most effective use of Recovery Act and formula funds. Requests for the extension through June 30, 2009, must be submitted to ETA by April 15, 2009. ETA will require that States submit a subsequent modification to the State Plan to incorporate Recovery Act planning by June 30, 2009. Details regarding the State Plan modifications will be provided in a subsequent Policy and Planning TEGL.

Likewise, because approved local plans are already in place, States are required to make the Recovery Act funds for WIA and Wagner-Peyser available to Local Areas not later than 30 days of being made available to the State. States are encouraged to devise a Local Plan modification process that enables local areas to plan for the quickest and most effective use of Recovery Act funds in the local areas while not delaying the rapid allocation of funds to local areas within 30 days of receipt of funds by the State. Therefore, the Local Plans, required by WIA section 118, may be dated and not reflect the economic context altered by the economic downturn or strategies altered by the additional funds available through the Recovery Act. Under 20 CFR 661.355, each Governor sets the policy for when a Local Plan must be modified, such as significant changes in local economic conditions and changes in financing available for WIA title I and partner-provided WIA services. States are encouraged to review their Local Plan modification policy, and to require that Local Plans be modified according to State policy.

State Youth Activities Funds: Title I Subtitle B—Chapter 4—Youth Activities

A. State Allotments. The amount available for WIA Youth Activities totals $1,188,000,000, which includes $17,820,000 for Native Americans, $1,167,210,000 for States, and $2,970,000 for outlying areas. Attachment II contains a breakdown of the State WIA Youth Activities program allotments by State. States are expected to spend Recovery Act funding quickly and effectively.

Even though the supplemental funds are part of the PY 2008 grant agreements, the allotment formulas use more recent unemployment data than that used for the PY 2008 allotments in order to more effectively distribute Recovery Act funds to those areas of greatest need. The three data factors required by WIA for the Youth Activities State formula allotments are:

(1) The number of unemployed for Areas of Substantial Unemployment (ASUs), averages for the 12-month period, July 2007 through June 2008, as prepared by the States using special 2000 Census data based on households, obtained under contract with the Census Bureau and provided to States by the Bureau of Labor Statistics (BLS);

(2) The number of excess unemployed individuals or the ASU excess (depending on which is higher), averages for the same 12-month period as used for ASU unemployment data; and

(3) The number of economically disadvantaged youth (age 16 to 21, excluding college students and military), from special 2000 census tabulations.

While the total amount available for States is above the $1 billion threshold, the Recovery Act exempts the program from the additional minimum provisions required by that threshold as specified in WIA Section 127(b)(1)(C)(iv)(IV). Instead, as required by WIA, the JTPA section 262(a)(3) (as amended by section 701 of the Job Training Reform Amendments of 1992) minimums of 90 percent hold-harmless of the prior year allotment percentage and 0.25 percent state minimum floor are applicable. WIA also requires the application of a 130 percent stop-gain of the prior year allotment percentage. For purposes of the hold-harmless provision, the PY 2008 allotment percentages are used for the preceding year.

B. Within-State Allocations. Youth Activities funds are to be distributed among local workforce investment areas (subject to reservation of up to 15 percent for statewide workforce investment activities) in accordance with the provisions of WIA Section 128 and according to the approved State Plan.

For purposes of identifying ASUs for the within-state Youth Activities allocation formula, States should continue to use the special 2000 Census data based on households which was obtained under contract with the Census Bureau and provided to States in October 2006 by BLS. These data will continue to be used for this purpose until further notice. For purposes of developing the number of economically disadvantaged Youth Activities for the statutory formula, the special 2000 census data provided to States for the within-state Youth Activities allocations beginning in PY 2004 should continue to be used.

States are to use the same reference periods for the data factors as described above and PY 2008 as the prior year hold-harmless, to be consistent with national office allotment distributions.

C. Transfers of Funds. There is no authority for local workforce investment areas to transfer funds to or from the Youth Activities program.

State Adult Employment and Training Activities Funds: Title I Subtitle B—Chapter 5—Adult and Dislocated Worker Employment and Training Activities

A. State Allotments. The amount available for Adult Activities is $495,000,000 of which $493,762,500 is for States and $1,237,500 is for outlying areas. Attachment III shows the Adult Activities allotments. States are strongly encouraged to spend Recovery Act funding quickly and effectively. WIA funding for the WIA Adult program is considered to be PY 2008 funds and, therefore, must be expended by June 30, 2011.

Even though the supplemental funds are part of the PY 2008 grant agreements, the allotment formulas use more recent unemployment data than that used for the PY 2008 allotments in order to more effectively distribute Recovery Act funds to those areas of greatest need. The three data factors required by WIA for the Adult State formula allotments are:

(1) The number of unemployed for Areas of Substantial Unemployment (ASUs), averages for the 12-month period, July 2007 through June 2008, as prepared by the States using special 2000 Census data based on households, obtained under contract with the Census Bureau and provided to States by the Bureau of Labor Statistics (BLS);

(2) The number of excess unemployed individuals or the ASU excess (depending on which is higher), averages for the same 12-month period as used for ASU unemployment data; and

(3) The number of economically disadvantaged adults (age 22 to 72, excluding college students and military) from special 2000 census tabulations.

Since the total amount available for the Adult program for States is below the required $960 million threshold specified in WIA Section 132(b)(1)(B)(iv)(IV), the WIA additional minimum provisions are not applicable. Also, like the youth program, the provision applying the 130 percent stop-gain of the prior year allotment percentage was used. For purposes of the hold-harmless provision, the PY 2008 allotment percentages are used for the preceding year.

B. Within-State Allocations. Adult allotments are to be distributed among local workforce investment areas (subject to reservation of up to 15 percent for statewide workforce investment activities) in accordance with the provisions in WIA Section 133 and according to the approved State Plan.

For purposes of identifying ASUs for the within-state Adult allocation formula, the special 2000 census data provided to States by BLS in October 2006 is to be used for census sharing until further notice. For purposes of developing the number of economically disadvantaged adults for the statutory formula, the special 2000 census data provided to States for the within-state Adult Activities allocations beginning in PY 2004 should continue to be used.

States are to use the same reference periods for the data factors as described above and PY 2008 as the prior year hold-harmless, to be consistent with national office allotment distributions.

C. Transfers of Funds. WIA Section 133(b)(4) provides the authority for local workforce investment areas, with approval of the Governor, to transfer up to 20 percent of the Adult Activities funds to Dislocated Worker Activities, and up to 20 percent of Dislocated Worker Activities funds to Adult Activities. It should be noted that this is different than the 30 percent currently permitted for regular formula funds pursuant to prior year appropriation acts. Additionally, ETA does not anticipate granting waivers that would allow transfers above the 20 percent. As will be described in the forthcoming planning guidance, the waiver to transfer more than 20 percent of local area funds between Dislocated Worker and Adult programs will not apply to Recovery Act funds.

State Dislocated Worker Employment and Training Funds: Title I Subtitle B —Chapter 5—Adult and Dislocated Worker Employment and Training Activities

The amount available for the Dislocated Worker Activities program is $1,435,500,000, with $1,237,500,000 for States, $3,588,750 for outlying areas, and $194,411,250 for the National Reserve. States are expected to spend Recovery Act funding quickly and effectively. Recovery Act funding is considered to be PY 2008 funds and, therefore, must be expended by June 30, 2011.

A. State Allotments. Attachment IV shows Recovery Act Dislocated Worker Activities fund allotments by State.

The three data factors required in WIA for the dislocated worker State formula allotments are:

(1) The number of unemployed, averages for the 12-month period, January 2008 through December 2008;

(2) The number of excess unemployed, averages for the 12-month period, January 2008 through December 2008; and

(3) The number of long-term unemployed, averages for calendar year 2008.

B. Within-State Allocations. Dislocated Worker Activities funds for the Recovery Act are to be distributed among local workforce investment areas (subject to reservation of up to 25 percent for statewide rapid response activities and up to 15 percent for statewide workforce investment activities) in accordance with the provisions in WIA Section 133 and according to the approved State Plan.

C. Transfers of Funds. WIA Section 133(b)(4) provides the authority for local workforce investment areas, with approval of the Governor, to transfer up to 20 percent of the Adult Activities funds to Dislocated Worker Activities, and up to 20 percent of Dislocated Worker Activities funds to Adult Activities. It should be noted that this is different than the 30 percent currently permitted for regular formula funds pursuant to prior year appropriation acts. Additionally, ETA does not anticipate granting waivers that would allow transfers above the 20 percent. As will be described in the forthcoming planning guidance, the waiver to transfer more than 20 percent of local area funds between Dislocated Worker and Adult programs will not apply to Recovery Act funds.

Wagner-Peyser Act Final Allotments

The amount available for employment service grants totals $396,000,000. Within this amount $247,500,000 is designated for reemployment services (RES) to connect unemployment insurance claimants to employment and training opportunities that will facilitate their reentry to employment. Such funds shall remain available to the States for obligation through September 30, 2010, and must be expended by the end of PY 2010.

After determining the funding for outlying areas, allotments to States are calculated using the formula set forth at section 6 of the Wagner-Peyser Act (29 U.S.C. 49e). Formula allotments are based on each State's share of calendar year 2008 monthly averages of the civilian labor force and unemployment. The distribution of Wagner-Peyser funds includes $395,034,690 for States, as well as $965,310 for outlying areas. Attachment V shows the distribution of Recovery Act amounts under the ES formula.

Under section 7(b) of the Wagner-Peyser Act, ten percent of the total sums allotted to each State shall be reserved for use by the Governor to provide performance incentives, services for groups with special needs, and for the extra costs of exemplary models for delivering job services through the one-stop system.

Reporting

Financial Reporting for the Recovery Act Funds

For the WIA formula programs, States are required to track financial information separately for each of the funding streams. States will submit the standard ETA-9130 reports for statewide youth, statewide adult, statewide dislocated worker, statewide rapid response (Dislocated Worker Activities), local youth, local adult, and local dislocated worker activities. The ETA-9130 reports for Recovery Act funds will be due 10 days after the end of the quarter rather than the current 45 day requirement. States are also to submit the ETA-9130 report each quarter for the Wagner-Peyser Act funds. Final guidance on financial reporting will be issued under a separate document.

Participant and Performance Reporting for the Recovery Act Funds

Accountability guidelines for the Recovery Act emphasize data quality, streamlining data collection, and collection of information that shows measurable program outputs. ETA is developing reporting guidelines that will minimize any new collection burdens. Final guidance on participant and performance reporting will be issued under a separate TEGL.

To the extent that new information or reports are required for Recovery Act activities, ETA will seek OMB clearance through the Paperwork Reduction Act process.

WIA Youth: 2009 Recovery Act
State | Allotment
Total | $1,188,000,000
Alabama | 11,647,403
Alaska | 3,936,018
Arizona | 17,830,637
Arkansas | 12,065,555
California | 186,622,034
Colorado | 11,874,970
Connecticut | 11,034,723
Delaware | 2,918,025
District of Columbia | 3,969,821
Florida | 42,873,265
Georgia | 31,361,665
Hawaii | 2,918,025
Idaho | 2,918,025
Illinois | 62,203,400
Indiana | 23,677,573
Iowa | 5,172,183
Kansas | 7,121,714
Kentucky | 17,709,821
Louisiana | 20,012,271
Maine | 4,293,710
Maryland | 11,585,610
Massachusetts | 24,838,038
Michigan | 73,949,491
Minnesota | 17,789,172
Mississippi | 18,687,021
Missouri | 25,400,077
Montana | 2,918,025
Nebraska | 2,944,616
Nevada | 7,570,212
New Hampshire | 2,918,025
New Jersey | 20,834,103
New Mexico | 6,235,678
New York | 71,526,360
North Carolina | 25,070,698
North Dakota | 2,918,025
Ohio | 56,158,510
Oklahoma | 8,708,036
Oregon | 15,068,081
Pennsylvania | 40,647,780
Puerto Rico | 42,456,987
Rhode Island | 5,611,097
South Carolina | 24,712,293
South Dakota | 2,918,025
Tennessee | 25,099,116
Texas | 82,000,708
Utah | 5,067,154
Vermont | 2,918,025
Virginia | 12,982,612
Washington | 23,445,432
West Virginia | 5,343,318
Wisconsin | 13,808,812
Wyoming | 2,918,025
State Total | 1,167,210,000
American Samoa | 170,030
Guam | 1,383,998
Northern Marianas | 512,149
Palau | 86,779
Virgin Islands | 817,044
Outlying Areas Total | 2,970,000
Native Americans | 17,820,000

WIA Adult: 2009 Recovery Act
State | Allotment
Total | $495,000,000
Alabama | 5,103,029
Alaska | 1,679,456
Arizona | 7,616,346
Arkansas | 5,072,930
California | 80,117,954
Colorado | 4,792,362
Connecticut | 4,385,149
Delaware | 1,234,406
District of Columbia | 1,542,940
Florida | 19,448,002
Georgia | 13,119,015
Hawaii | 1,234,406
Idaho | 1,234,406
Illinois | 25,790,612
Indiana | 9,393,463
Iowa | 1,554,835
Kansas | 2,702,158
Kentucky | 8,192,097
Louisiana | 8,703,290
Maine | 1,808,086
Maryland | 4,909,757
Massachusetts | 10,073,668
Michigan | 30,857,680
Minnesota | 6,952,045
Mississippi | 7,772,797
Missouri | 10,482,040
Montana | 1,234,406
Nebraska | 1,234,406
Nevada | 3,392,179
New Hampshire | 1,234,406
New Jersey | 9,386,433
New Mexico | 2,659,786
New York | 31,516,111
North Carolina | 10,337,165
North Dakota | 1,234,406
Ohio | 23,386,373
Oklahoma | 3,650,170
Oregon | 6,327,640
Pennsylvania | 16,545,744
Puerto Rico | 20,128,708
Rhode Island | 2,106,542
South Carolina | 10,417,221
South Dakota | 1,234,406
Tennessee | 10,835,862
Texas | 34,344,771
Utah | 1,798,155
Vermont | 1,234,406
Virginia | 5,227,634
Washington | 9,694,268
West Virginia | 2,410,113
Wisconsin | 5,183,854
Wyoming | 1,234,406
State Total | 493,762,500
American Samoa | 75,000
Guam | 554,734
Northern Marianas | 205,279
Palau | 75,000
Virgin Islands | 327,487
Outlying Areas Total | 1,237,500

WIA Dislocated Worker: 2009 Recovery Act
State | Allotment
Total | $1,435,500,000
Alabama | 13,193,657
Alaska | 3,546,444
Arizona | 17,403,029
Arkansas | 7,518,483
California | 221,906,888
Colorado | 14,464,916
Connecticut | 14,884,070
Delaware | 2,039,325
District of Columbia | 3,792,823
Florida | 80,551,937
Georgia | 43,801,838
Hawaii | 2,161,193
Idaho | 2,832,818
Illinois | 68,533,653
Indiana | 26,213,424
Iowa | 5,225,689
Kansas | 5,203,888
Kentucky | 18,713,127
Louisiana | 9,258,530
Maine | 4,572,069
Maryland | 11,255,145
Massachusetts | 21,223,446
Michigan | 78,452,046
Minnesota | 20,963,288
Mississippi | 14,210,277
Missouri | 25,830,846
Montana | 1,756,038
Nebraska | 2,591,113
Nevada | 14,311,733
New Hampshire | 2,501,984
New Jersey | 32,706,420
New Mexico | 2,960,889
New York | 66,368,188
North Carolina | 44,419,273
North Dakota | 916,452
Ohio | 58,511,252
Oklahoma | 6,023,463
Oregon | 17,162,449
Pennsylvania | 42,482,006
Puerto Rico | 29,524,346
Rhode Island | 7,945,909
South Carolina | 24,705,053
South Dakota | 953,834
Tennessee | 28,372,248
Texas | 53,768,305
Utah | 3,536,734
Vermont | 1,749,098
Virginia | 14,115,351
Washington | 22,142,010
West Virginia | 3,579,605
Wisconsin | 16,059,607
Wyoming | 583,791
State Total | 1,237,500,000
American Samoa | 217,500
Guam | 1,608,729
Northern Marianas | 595,309
Palau | 217,500
Virgin Islands | 949,712
Outlying Areas Total | 3,588,750
National Reserve Total | 194,411,250

Employment Service (Wagner-Peyser): 2009 Recovery Act
State | Total allotment | RES | Other
Total | $396,000,000 | $247,500,000 | $148,500,000
Alabama | 5,093,106 | 3,183,191 | 1,909,915
Alaska | 4,304,709 | 2,690,443 | 1,614,266
Arizona | 7,022,967 | 4,389,354 | 2,633,613
Arkansas | 3,309,854 | 2,068,659 | 1,241,195
California | 46,970,564 | 29,356,604 | 17,613,960
Colorado | 6,212,434 | 3,882,771 | 2,329,663
Connecticut | 4,449,594 | 2,780,996 | 1,668,598
Delaware | 1,106,097 | 691,311 | 414,786
District of Columbia | 1,427,427 | 892,142 | 535,285
Florida | 22,146,579 | 13,841,612 | 8,304,967
Georgia | 11,711,489 | 7,319,681 | 4,391,808
Hawaii | 1,426,246 | 891,404 | 534,842
Idaho | 3,586,589 | 2,241,618 | 1,344,971
Illinois | 16,567,244 | 10,354,527 | 6,212,717
Indiana | 7,858,143 | 4,911,339 | 2,946,804
Iowa | 3,726,404 | 2,329,002 | 1,397,402
Kansas | 3,436,869 | 2,148,043 | 1,288,826
Kentucky | 5,146,036 | 3,216,272 | 1,929,764
Louisiana | 5,191,488 | 3,244,680 | 1,946,808
Maine | 2,132,910 | 1,333,069 | 799,841
Maryland | 6,688,441 | 4,180,276 | 2,508,165
Massachusetts | 8,063,456 | 5,039,660 | 3,023,796
Michigan | 13,858,019 | 8,661,262 | 5,196,757
Minnesota | 6,895,090 | 4,309,431 | 2,585,659
Mississippi | 3,617,920 | 2,261,200 | 1,356,720
Missouri | 7,399,208 | 4,624,505 | 2,774,703
Montana | 2,930,979 | 1,831,862 | 1,099,117
Nebraska | 3,522,460 | 2,201,537 | 1,320,923
Nevada | 3,471,160 | 2,169,475 | 1,301,685
New Hampshire | 1,617,171 | 1,010,732 | 606,439
New Jersey | 10,662,171 | 6,663,857 | 3,998,314
New Mexico | 3,289,073 | 2,055,671 | 1,233,402
New York | 22,855,217 | 14,284,511 | 8,570,706
North Carolina | 11,091,396 | 6,932,122 | 4,159,274
North Dakota | 2,984,613 | 1,865,383 | 1,119,230
Ohio | 15,017,635 | 9,386,022 | 5,631,613
Oklahoma | 3,912,797 | 2,445,498 | 1,467,299
Oregon | 4,898,310 | 3,061,444 | 1,836,866
Pennsylvania | 15,098,730 | 9,436,706 | 5,662,024
Puerto Rico | 4,645,634 | 2,903,521 | 1,742,113
Rhode Island | 1,497,925 | 936,203 | 561,722
South Carolina | 5,604,614 | 3,502,884 | 2,101,730
South Dakota | 2,758,469 | 1,724,043 | 1,034,426
Tennessee | 7,414,473 | 4,634,046 | 2,780,427
Texas | 27,188,088 | 16,992,555 | 10,195,533
Utah | 4,299,056 | 2,686,910 | 1,612,146
Vermont | 1,292,224 | 807,640 | 484,584
Virginia | 8,813,824 | 5,508,640 | 3,305,184
Washington | 8,230,745 | 5,144,216 | 3,086,529
West Virginia | 3,157,340 | 1,973,337 | 1,184,003
Wisconsin | 7,291,549 | 4,557,218 | 2,734,331
Wyoming | 2,140,154 | 1,337,596 | 802,558
State Total | 395,034,690 | 246,896,681 | 148,138,009
Guam | 185,297 | 115,811 | 69,486
Virgin Islands | 780,013 | 487,508 | 292,505
Outlying Areas Total | 965,310 | 603,319 | 361,991

Signed: At Washington, DC, on this 13th day of March 2009.
Douglas F. Small,
Deputy Assistant Secretary.

[FR Doc. E9-6029 Filed 3-18-09; 8:45 am]

BILLING CODE 4510-FN-P